DEPARTMENT OF AGRICULTURE

Office of the Under Secretary, Research, Education, and Economics; Notice of the Advisory Committee on Biotechnology and 21st Century Agriculture Meeting

AGENCY: Agricultural Research Service, USDA.

ACTION: Notice of public meeting.

SUMMARY: Pursuant to the Federal Advisory Committee Act, 5 U.S.C. App. 2, the United States Department of Agriculture announces a meeting of the Advisory Committee on Biotechnology and 21st Century Agriculture (AC21). The committee is being convened to complete all substantive work on a report to USDA related to the promotion of coexistence efforts among farmers at the local level.

DATES: The meeting will be held on Thursday-Friday, September 8-9, 2016, 8:30 a.m. to 5:00 p.m. each day. This meeting is open to the public. On September 8, 2016, if time permits, reasonable provision will be made for oral presentations of no more than five minutes each in duration, starting at 3:30 p.m. Members of the public who wish to make oral statements should also inform Dr. Schechtman in writing or via Email at the indicated addresses below at least three business days before the meeting.

ADDRESSES: U.S. Access Board Conference Room, 1331 F Street NW., Suite 800, Washington, DC 20004.

FOR FURTHER INFORMATION CONTACT: General information about the committee can also be found at http://www.usda.gov/wps/portal/usda/usdahome?navid=BIOTECH_AC21&navtype=RT&parentnav=BIOTECH. However, Michael Schechtman, Designated Federal Official, Office of the Deputy Secretary, USDA, 202B Jamie L. Whitten Federal Building, 12th and Independence Avenue SW., Washington, DC 20250; Telephone (202) 720-3817; Fax (202) 690-4265; Email AC21@ars.usda.gov may be contacted for specific questions about the committee or this meeting.

SUPPLEMENTARY INFORMATION: The AC21 has been established to provide information and advice to the Secretary of Agriculture on the broad array of issues related to the expanding dimensions and importance of agricultural biotechnology. The committee is charged with examining the long-term impacts of biotechnology on the U.S. food and agriculture system and USDA, and providing guidance to USDA on pressing individual issues, identified by the Office of the Secretary, related to the application of biotechnology in agriculture. In recent years, the work of the AC21 has centered on the issue of coexistence among different types of agricultural production systems. The AC21 consists of members representing the biotechnology industry, the organic food industry, farming communities, the seed industry, food manufacturers, state government, consumer and community development groups, as well as academic researchers and a medical doctor. In addition, representatives from the Department of Commerce, the Department of Health and Human Services, the Environmental Protection Agency, the Council on Environmental Quality, and the Office of the United States Trade Representative serve as “ex officio” members.

In its last report, issued on November 17, 2012, entitled “Enhancing Coexistence: A Report to the Secretary of Agriculture,” and available on the Web site listed below, the AC21 offered a diverse package of recommendations, among which was a recommendation that “. . . USDA should facilitate development of joint coexistence plans by neighboring farmers,” and that in a pilot program, USDA should, among other things, offer incentives for the development of such plans.

At its meeting on December 14-15, 2015, USDA offered a specific new charge to the AC21 building on its previous work. Recognizing that USDA currently lacks the legal authority to offer any such incentives, the committee has been charged with considering the following two questions: Is there an approach by which farmers could be encouraged to work with their neighbors to develop joint coexistence plans at the State or local level? If so, how might the Federal government assist in that process?

At the AC21's two most recent meetings, on March 14-15, 2016 and June 13-14, 2016, AC21 members reached a general agreement on the main elements of the upcoming report and made substantial progress in defining the content of its next report. The report is to include, among other things, a model for convening coexistence discussions at the local level as well as guidance for farmers around the production of identity-preserved crops. The objective for this meeting is to complete all substantive work on the report to USDA.

Background information regarding the work and membership of the AC21 is available on the USDA Web site at http://www.usda.gov/wps/portal/usda/usdahome?contentid=AC21Main.xml&contentidonly=true. A copy of the draft AC21 report under consideration will be made available on that Web site at least 10 days prior to the meeting.

Register for the Meeting: The public is asked to pre-register for the meeting at least 8 business days prior to the meeting. Your pre-registration must state: The names of each person in your group; organization or interest represented; the number of people planning to give oral comments, if any; and whether anyone in your group requires special accommodations. Submit registrations to Ms. Dianne Fowler at (202) 720-4074 or by Email at Dianne.fowler@ars.usda.gov by August 26, 2016. The Agricultural Research Service will also accept walk-in registrations. Members of the public who request to give oral comments to the Committee, must arrive by 8:45 a.m. on September 8, 2016 and will be given their allotted time limit and turn at the check-in table.

Public Comments: Written public comments may be mailed to Michael Schechtman, Designated Federal Official, Office of the Deputy Secretary, USDA, 202B Jamie L. Whitten Federal Building, 12th and Independence Avenue SW., Washington, DC 20250; via fax to (202) 690-4265 or email to AC21@ars.usda.gov. All written comments must arrive by September 1, 2016. Oral comments are also accepted. To request to give oral comments, see instructions under `Register for the Meeting' above.

Availability of Materials for the Meeting: All written public comments will be compiled into a binder and available for review at the meeting. Duplicate comments from multiple individuals will appear as one comment, with a notation that multiple copies of the comment were received. Please visit the Web site listed above to learn more about the agenda for or reports resulting from this meeting.

Meeting Accommodations: The meeting will be open to the public, but space is limited. USDA is committed to ensuring that all employees are included in our work environment, programs and events. If you are a person with a disability and request reasonable accommodations to participate in this meeting, please note the request in your registration. All reasonable accommodation requests are managed on a case by case basis.

Issued at Washington, DC, August 11, 2016.
Catherine E. Woteki,
Under Secretary, Research, Education and Economics.

[FR Doc. 2016-19720 Filed 8-17-16; 8:45 am]

BILLING CODE 3410-03-P